DEPARTMENT OF JUSTICE

[OMB 1140-0015]

Agency Information Collection Activities; Proposed eCollection eComments Requested; Revision of a Previously Approved Collection: Application To Transfer and Register NFA Firearm (Tax-Exempt), ATF Form 5320.5 (“Form 5”)

AGENCY: Bureau of Alcohol, Tobacco, Firearms and Explosives; Department of Justice.

ACTION: 60-Day notice.

SUMMARY: The Department of Justice (DOJ), Bureau of Alcohol, Tobacco, Firearms, and Explosives (ATF), will be submitting the following information collection request to the Office of Management and Budget (OMB) for renewal review and approval in accordance with the Paperwork Reduction Act of 1995.

DATES: Comments are encouraged and will be accepted for 60 days until October 6, 2025.

FOR FURTHER INFORMATION CONTACT: If you have additional comments, especially on the estimated public burden or associated response time, suggestions, or need a copy of the proposed information collection instrument with instructions or additional information, contact: Meghan Tisserand, Division Staff, National Firearms Act Division, either by mail at National Firearms Act Division; Division Staff Office; 244 Needy Road; Martinsburg, WV 25405, by email at Meghan.tisserand@atf.gov, or by telephone at 304-616-3219.

SUPPLEMENTARY INFORMATION: We encourage written comments and suggestions from the public and affected agencies concerning the proposed information collection. Your comments should address one or more of the following four points:

—Evaluate whether the proposed information collection is necessary to properly perform the identified functions of the Bureau, including whether the information will have practical utility;

—Evaluate the accuracy of the agency's estimate of the proposed information collection's burden, including the validity of the methodology and assumptions used;

—Evaluate whether, and if so how, the agency can enhance the quality, utility, and clarity of the information being collected; and

—Minimize the information collection's burden on those who are to respond, including through the use of appropriate automated, electronic, mechanical, or other technological collection techniques or other forms of information technology, e.g., permitting responses to be submitted electronically.

Abstract: Persons who wish to apply for permission to transfer and register a National Firearms Act (NFA) firearm, and who qualify to do so under one of the statutory tax exemptions, must use ATF Form 5320.5, Application to Transfer and Register NFA Firearm (Tax-Exempt) (“Form 5”). ATF uses the information to determine legality of the firearm transfer under federal, state, and local law. Applicants also use the form to claim an exemption from paying the otherwise-required transfer tax as provided and provide the information necessary to support their claim. In addition, ATF uses Form 5 to effect a transfer resulting from operation of law, for example, a firearm in an estate being transferred to a beneficiary, or a firearm being transferred as a result of bankruptcy. Persons may also use Form 5 to facilitate temporarily conveying a firearm for repair, and its subsequent return.

Information Collection (IC) OMB 1140-0015 is being revised to include an increase in respondents from 10,591 three years ago to 17,322 in 2025, an increase of 6,731 respondents since the last renewal. In addition, the time burden has decreased from 30 to 12 minutes due to developments in technology allowing electronic forms, reducing the number of respondents who must provide fingerprints and reducing the number of copies, allowing electronic fingerprints on-site, reducing respondents who must provide photographs, allowing cell phone photographs, and allowing photocopied identification cards instead, all submitted electronically. In addition, the requirement to complete an extra copy of the form and submit it to local law enforcement is going away, and the fillable forms have made it possible to populate the second copy at the same time as the first copy, both of which reduce the time burden even more. As a result, there has been a corresponding decrease in the burden hours per respondent, from .5 hours to .2 hours each, resulting in a reduction in total annual burden hours from 5,350 to 3,464, a decrease of 1,866 hours.

In addition, the agency is making the following minor changes to Form 5 in anticipation of upcoming regulatory changes, and to make the form easier to read, correct minor errors, and adjust for updated technology:

• revising the title to be more clear

• removing the photo box on the form to allow the option to attach either a passport-style photo or a copy of a photo identification document

• combining race/ethnicity items

• allowing additional types of electronic/digital signatures

• revising the fillable pdf form to link copy 1 and copy 2 so that copy 2 gets populated as the copy 1 is filled in, except for check boxes and signature

• adding references to eForms and pay.gov

• adding reference to the refund process

• removing the CLEO notification requirement and copy

• adding instructions for married couples jointly making, transferring, and registering a firearm, as an `other legal entity'

• correcting typographical/grammar items

• adding email addresses for different questions: nfa@atf.gov, ipb@atf.gov, & nfafax@atf.gov

Overview of This Information Collection

1. Type of information collection: Revision of a previously approved collection.

2. Title of the form/collection: Application to Transfer and Register NFA Firearm (Tax-Exempt).

3. The agency form number, if any, and the applicable component of the Department sponsoring the collection: Form number: ATF Form 5320.5.

Component: Bureau of Alcohol, Tobacco, Firearms, and Explosives; U.S. Department of Justice.

4. Affected public who will be asked or required to respond, as well as the obligation to respond: Affected public: Federal government, state or local government, persons selling unserviceable firearms.

The obligation to respond is: Required to obtain/retain a benefit, comply with law.

5. An estimate of the total number of respondents and the amount of time estimated for an average respondent to respond: An estimated 17,322 respondents will respond to this collection once annually, and it will take each respondent approximately 12 minutes to complete their responses.

6. An estimate of the total annual burden (in hours) associated with the collection: The estimated annual public burden associated with this collection is 3,464 total hours, which is equal to 17,322 (total respondents) * 1 (# of responses per respondent) * 0.20 (12 minutes).

7. An estimate of the total annual cost burden associated with the collection, if applicable: $79,672.

Table—Estimated Annualized Respondent Hour Burden
[Rounded]
Activity | Number of respondents | Frequency | Total annual responses | Time per response | Total annual burden (hours) | Hourly rate | Monetized value of respondent time
Completing Form 5 | 17,322 | 1 | 17,322 | 0.20 | 3,464 | $23 | $79,672

If additional information is required, contact: Darwin Arceo, Department Clearance Officer; United States Department of Justice; Justice Management Division, Policy and Planning Staff; Two Constitution Square; 145 N Street NE, 4W-218; Washington, DC.

Dated: August 4, 2025.
Darwin Arceo,
Department Clearance Officer for PRA, U.S. Department of Justice.

[FR Doc. 2025-14903 Filed 8-5-25; 8:45 am]

BILLING CODE 4410-FY-P